DEPARTMENT OF ENERGY

Federal Energy Regulatory Commission

[Docket No. RP03-471-002]

MIGC, Inc.; Notice of Compliance Filing

August 8, 2003.

Take notice that on August 5, 2003, MIGC, Inc. (MIGC) tendered for filing as part of its FERC Gas Tariff, First Revised Volume No.1, Second Sub Fourth Revised Sheet No. 84, to become effective July 1, 2003.

MIGC asserts that the purpose of this filing is to comply with the Commission's Letter Order issued August 1, 2003, in Docket No. RP03-471-001, requiring MIGC to revise certain tariffs which were filed in MIGC's Order No. 587-R compliance filing in RM96-1-024 made on July 7, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 18, 2003.

Magalie R. Salas,
Secretary.

[FR Doc. 03-20978 Filed 8-15-03; 8:45 am]

BILLING CODE 6717-01-P